DEPARTMENT OF AGRICULTURE

Agricultural Marketing Service

7 CFR Part 735

7 CFR Chapter VIII

9 CFR Chapter II

[Doc. No. AMS-FGIS-18-0073 FR]

Reorganization and Transfer of Regulations

AGENCY: Agricultural Marketing Service; Farm Service Agency; Grain Inspection, Packers, and Stockyards Administration; USDA.

ACTION: Final rule.

SUMMARY: This rule transfers certain regulations under the Farm Service Agency (FSA) and the Grain Inspection, Packers and Stockyards Administration (GIPSA) to the Agricultural Marketing Service (AMS) to reflect changes in the organizational structure and delegated authorities within the United States Department of Agriculture (USDA). This rule also makes corresponding revisions to the regulations to reflect the organizational changes. This action is necessary to enable the AMS Administrator to issue, maintain, and revise as necessary regulations related to programs under the AMS Administrator's delegated authority.

DATES: Effective August 30, 2019.

FOR FURTHER INFORMATION CONTACT: Dawana J. Clark, Legislative and Regulatory Review Staff, Office of the Administrator, AMS, USDA; Telephone: (202) 720-7540, Fax: (202) 690-3767, or Email: Dawana.Clark@usda.gov.

SUPPLEMENTARY INFORMATION: In November 2018, the Secretary of Agriculture directed the reorganization of several USDA agencies. The purpose of the reorganization was to help USDA better meet the needs of farmers, ranchers, and producers, while providing improved customer service and maximizing efficiency. A final rule published November 29, 2018 (83 FR 61309), eliminated GIPSA as a stand-alone agency and amended 7 CFR part 2 to include new delegations of authority from the Under Secretary for Marketing and Regulatory Programs to the AMS Administrator. Amended § 2.79 authorizes the AMS Administrator to administer the United States Grain Standards Act, as amended (7 U.S.C. 71-87h); the Packers and Stockyards Act, 1921 (P&S), as amended and supplemented (7 U.S.C. 181 et seq.); and the United States Warehouse Act (USWA), as amended (7 U.S.C. 241-273). The reorganization and redelegation of authority necessitate the transfer of corresponding regulations to AMS, giving the AMS Administrator authority to issue, maintain, and revise regulations pertaining to USWA programs, the Federal Grain Inspection Service (FGIS), and P&S programs. This final rule completes the necessary transfer.

Overview of Changes

Currently, Title 7, Chapter VII, part 735 of the Code of Federal Regulations (CFR) contains the USWA regulations, under FSA administration. This final rule transfers the USWA regulations in part 735 to Chapter VIII of Title 7 and redesignates them as part 869. Currently Chapter VIII is titled “Grain Inspection, Packers and Stockyards Administration (Federal Grain Inspection Service), Department of Agriculture.” This final rule revises the title of Chapter VIII to read “Agricultural Marketing Service (Federal Grain Inspection Service, Fair Trade Practices Program), Department of Agriculture” to reflect the elimination of GIPSA and the redelegation of administrative authority for FGIS and USWA activities to the AMS Administrator. The Deputy Administrator of AMS's Federal Grain Inspection Service oversees FGIS activities for the Administrator, and the Deputy Administrator of AMS's Fair Trade Practices Program (FTPP) oversees USWA activities for the Administrator.

Currently, Title 9, Chapter II, of the CFR, titled “Grain Inspection, Packers and Stockyards Administration (Packers and Stockyards Programs), Department of Agriculture” contains the P&S regulations. This final rule revises the title of Chapter II to read “Agricultural Marketing Service (Fair Trade Practices Program), Department of Agriculture” to reflect the elimination of GIPSA and the redelegation of administrative authority for P&S activities to the AMS Administrator. The Deputy Administrator of FTPP oversees P&S activities for the Administrator.

This final rule makes corresponding revisions to certain definitions, references, addresses, and telephone numbers in 7 CFR parts 800, 868, and 869; and 9 CFR parts 201,202, 203, and 206 to reflect redelegation to the AMS Administrator of authority over former GIPSA and FSA programs. This rule replaces references to the Grain Inspection, Packers and Stockyards Administration, GIPSA, the Farm Service Agency, and FSA as appropriate with references to the Agricultural Marketing Service and AMS. This rule redefines the term Administrator in the affected regulations to mean the AMS Administrator. This rule updates street, mailing, and website addresses to provide current addresses related to services now provided by AMS.

This final rule revises redesignated 7 CFR part 869 by replacing references to FSA's Deputy Administrator, Commodity Operations or DACO with references to AMS's Warehouse and Commodity Management Division Director and AMS. This rule also revises cross references within part 869 by replacing references to other sections in part 735 with references to the corresponding sections in redesignated part 869. Specifically, this rule revises such cross references in §§ 869.3, 869.6, 869.303, 869.401, 869.402, 869.403, and 869.404.

This rule makes additional revisions to 9 CFR parts 201, 202, and 203. In § 201.2(f), the term Regional Director replaces the term Regional Supervisor and means a Regional Director of FTPP's Packers and Stockyards Division (PSD). This rule adds a new definition for Packers and Stockyards Division (PSD), which now administers the Packers and Stockyards programs on a day-to-day basis. In § 201.108-1, references to PSD replace references to Packers and Stockyards Programs. In §§ 202.103 and 202.112, references to PSD regional and headquarters offices replace references to area and headquarters offices of the Agency. Similarly, a reference to a PSD Regional Office replaces the reference to a GIPSA Regional Office in § 203.15(a)(6). This rule also revises several references to GIPSA in 9 CFR part 206 by replacing them with references to AMS or PSD as appropriate.

Currently, 9 CFR part 204 describes GIPSA organization and functions. Since GIPSA was eliminated and its functions redelegated to AMS, this section is no longer necessary. This final rule removes and reserves part 204.

Classification

This final rule is administrative in nature and reflects changes in the agency's organization. Accordingly, pursuant to 5 U.S.C. 553, notice of proposed rulemaking and opportunity for comment are not required, and this rule may be made effective in fewer than 30 days after publication in the Federal Register. Therefore, this final rule is effective upon publication.

Additionally, this rule is exempt from the provisions of Executive Orders 12866 and 13771. This action is not a rule as defined by the Regulatory Flexibility Act, as amended by the Small Business Regulatory Enforcement Fairness Act of 1996, 5 U.S.C. 801 et seq., and thus is exempt from the provisions of those Acts. This rule contains no information collection or recordkeeping requirements under the Paperwork Reduction Act of 1995 (44 U.S.C. 3501 et seq.).

The Congressional Review Act (5 U.S.C. 801 et seq.), provides exemptions for rules: “of particular applicability”; “relating to agency management or personnel”; or “of agency organization, procedure, or practice that does not substantially affect the rights or obligations of non-agency parties.” This rulemaking qualifies for this exemption.

AMS is committed to complying with the E-Government Act to promote the use of the internet and other information technologies, to provide increased opportunities for citizen access to Government information and services, and for other purposes.

USDA has not identified any relevant Federal rules that duplicate, overlap, or conflict with this final rule.

List of Subjects

7 CFR Part 735

Administrative practice and procedure, Beans, Cotton, Cottonseeds, Grains, Nuts, Reporting and recordkeeping requirements, Sugar, Surety bonds, Tobacco, Warehouses, Textiles.

7 CFR Part 800

Administrative practice and procedure, Conflict of interests, Exports, Freedom of information, Grains, Intergovernmental relations, Penalties, Reporting and recordkeeping requirements.

7 CFR Part 868

Administrative practice and procedure, Agricultural commodities, Reporting and recordkeeping requirements, Rice.

7 CFR Part 869

Administrative practice and procedure, Beans, Cotton, Cottonseeds, Grains, Nuts, Reporting and recordkeeping requirements, Sugar, Surety bonds, Tobacco, Warehouses, Textiles.

9 CFR Part 201

Confidential business information, Reporting and recordkeeping requirements, Stockyards, Surety bonds, Trade practices.

9 CFR Part 202

Administrative practice and procedure, Stockyards.

9 CFR Part 203

Reporting and recordkeeping requirements, Stockyards.

9 CFR Part 204

Freedom of information, Organization and functions (Government agencies)

9 CFR Part 205

Archives and records, Intergovernmental relations, Reporting and recordkeeping requirements

9 CFR Part 206

Government contracts, Reporting and recordkeeping requirements, Swine.

For the reasons stated in the preamble, as authorized by the Secretary's Memorandum dated November 14, 2018, and under authority of 5 U.S.C. 552 and 7 U.S.C. 71-87k, 181-229, 1621-1627, and 1631, the Department of Agriculture amends 7 CFR chapters VII and VIII and 9 CFR chapter II as follows:

Title 7—Agriculture

PART 735 [TRANSFERRED TO CHAPTER VIII AND REDESIGNATED AS PART 869]

1. The authority citation for part 735 continues to read as follows:

Authority: 7 U.S.C. 241 et seq.

2. Transfer part 735 into 7 CFR chapter VIII and redesignate it as part 869.

Subchapter C [Reserved]

3. Subchapter C, consisting of parts 735 and 743, is removed and reserved.

Chapter VIII—Agricultural Marketing Service (Federal Grain Inspection Service, Fair Trade Practices Program), Department of Agriculture

4. Revise the heading of 7 CFR chapter VIII to read as set forth above.

PARTS 800 THROUGH 868 [DESIGNATED AS SUBCHAPTER A]

5. Designate parts 800 through 868 as subchapter A under the following heading:

Subchapter A—Federal Grain Inspection

6. An authority citation for subchapter A is added to read as follows:

Authority: 7 U.S.C. 71-87K, 1621-1627.

Subchapter A [Amended]

7. In newly designated subchapter A, wherever it occurs:

a. Remove the words “Grain Inspection, Packers and Stockyards Administration” and add in their place “Agricultural Marketing Service”; and

b. Remove the term “GIPSA” and add in its place “AMS”.

PART 800—GENERAL REGULATIONS

8. The authority citation for part 800 continues to read:

Authority: 7 U.S.C. 71-87k.

9. Revise § 800.7 to read as follows:

§ 800.7 Information about the Service, Act, and regulations.

Information about the Agricultural Marketing Service, Service, Act, regulations, official standards, official criteria, rules of practice, instructions, and other matters related to the official inspection or Class X or Class Y weighing of grain may be obtained by telephoning or writing the Service at its headquarters or any one of its field offices at the numbers and addresses listed on the Service's website.

10. Amend § 800.8 by revising paragraphs (d) and (e) to read as follows:

§ 800.8 Public information.

* * * * *

(d) Requests for records. Requests for records under 5 U.S.C. 552(a)(3) shall be made in accordance with 7 CFR 1.6 and shall be addressed as follows: AMS FOIA Officer, Agricultural Marketing Service, FOIA Request, 1400 Independence Avenue SW, Room 2095-S, Stop 0203, Washington, DC 20250-0203.

(e) Appeals. Any person whose request under paragraph (d) of this section is denied shall have the right to appeal such denial in accordance with 7 CFR 1.13. Appeals shall be addressed to the Administrator, Agricultural Marketing Service, FOIA Appeal, 1400 Independence Avenue SW, Room 3071-S, Stop 0201, Washington, DC 20250-0201.

* * * * *

PART 868—GENERAL REGULATIONS AND STANDARDS FOR CERTAIN AGRICULTURAL COMMODITIES

11. The authority citation for part 868 continues to read:

Authority: 7 U.S.C. 1621-1627.

12. Amend § 868.91 by revising note 2 to table 2 to read as follows:

§ 868.91 Fees for certain Federal rice inspection services.

* * * * *

Table 2—Unit Rates Service ¹

* * * * *

¹ Fees apply to determinations (original or appeals) for kind, class, grade, factor analysis, equal to type, milling yield, or any other quality designation as defined in the U.S. Standards for Rice or applicable instructions, whether performed singly or in combination at other than at the applicant's facility.

² Interpretive line samples may be purchased from the U.S. Department of Agriculture, AMS, FGIS, National Grain Center, 10383 North Ambassador Drive, Kansas City, Missouri 64153-1394. Interpretive line samples also are available for examination at selected FGIS field offices. A list of field offices may be obtained from the AMS website at (https://www.ams.usda.gov). The interpretive line samples illustrate the lower limit for milling degrees only and the color limit for the factor “Parboiled Light” rice.

* * * * *

Subchapter B—Regulations for Warehouses

13. Add a heading for subchapter B, consisting of newly transferred and redesignated part 869, to read as set forth above.

PART 869—REGULATIONS FOR THE UNITED STATES WAREHOUSE ACT

14. The authority citation for newly transferred and redesignated part 869 continues to read as follows:

Authority: 7 U.S.C. 241 et seq.

15. In newly transferred and redesignated part 869, wherever it occurs:

a. Remove the words “Farm Service Agency” and add in their place “Agricultural Marketing Service”;

b. Remove the term “FSA” and add in its place “AMS”; and

c. Remove the term “DACO” and add in its place “AMS”.

16. In newly transferred and redesignated § 869.2, revise paragraphs (a) and (d)(2) to read as follows:

§ 869.2 Administration.

(a) AMS will administer all provisions and activities regulated under the Act under the general direction and supervision of AMS's Director, Warehouse and Commodity Management Division, or a designee.

* * * * *

(d) * * *

(2) The following address: Director, Warehouse and Commodity Management Division, Fair Trade Practices Program, AMS, USDA, Stop 3601, 1400 Independence Avenue SW, Washington, DC 20250-3601.

§ 869.3 [Amended]

17. In newly transferred and redesignated § 869.3, amend the definition of “Service license” by removing the reference to “§ 735.202” and adding in its place “§ 868.202”.

18. In newly transferred and redesignated § 869.4, revise paragraphs (c)(1) and (2) to read as follows:

§ 869.4 Fees.

* * * * *

(c) * * *

(1) Will be available at AMS's website, or

(2) May be requested at the following address: Director, Warehouse and Commodity Management Division, Fair Trade Practices Program, AMS, USDA, Stop 3601, 1400 Independence Avenue SW, Washington, DC 20250-3601.

* * * * *

§ 869.5 [Amended]

18. In newly transferred and redesignated § 869.5, in the introductory text, remove the reference to “§ 735.8” and add in its place “§ 869.8”.

§ 869.6 [Amended]

20. In newly transferred and redesignated § 869.6, in paragraph (a), remove the reference to “§ 735.8” and add in its place “§ 869.8”.

21. In newly transferred and redesignated § 869.8 revise paragraph (a) to read as follows:

§ 869.8 Appeals.

(a) Any person who is subject to an adverse determination made under the Act may appeal the determination by filing a written request with AMS at the following address: Director, Warehouse and Commodity Management Division, Fair Trade Practices Program, AMS, USDA, Stop 3601, 1400 Independence Avenue SW, Washington, DC 20250-3601.

* * * * *

§ 869.303 [Amended]

22. In newly transferred and redesignated § 869.303, in paragraph (a)(2), remove the reference to “§ 735.2(b)” and add in its place “§ 869.2(b)”.

§ 869.401 [Amended]

23. Amend newly transferred and redesignated § 869.401:

a. In paragraph (a)(2), by removing the reference to “§ 735.14” and adding in its place “§ 869.14”; and

b. In paragraph (c)(1), by removing “§§ 735.6 and 735.8” and adding in its place “§§ 869.6 and 869.8”.

§ 869.402 [Amended]

24. Amend newly transferred and redesignated § 869.402:

a. In paragraph (a)(2), by removing the reference to “§ 735.14” and adding in its place “§ 869.14”; and

b. In paragraph (c)(1), by removing “§§ 735.6 and 735.8” and adding in its place “§§ 869.6 and 869.8”.

§ 869.403 [Amended]

25. In newly transferred and redesignated § 869.403, in paragraph (a), remove “§§ 735.401 and 735.402” and add in its place “§§ 869.401 and 869.402”.

§ 869.404 [Amended]

26. In newly transferred and redesignated § 869.404, in paragraph (a), remove “§§ 735.401 or 735.402” and add in its place “§ 869.401 or § 869.402”.

Title 9—Animals and Animal Products

CHAPTER II—AGRICULTURAL MARKETING SERVICE (FAIR TRADE PRACTICES PROGRAM), DEPARTMENT OF AGRICULTURE

27. Revise the heading of 9 CFR chapter II to read as set forth above.

PART 201—REGULATIONS UNDER THE PACKERS AND STOCKYARDS ACT

28. The authority citation for part 201 continues to read as follows:

Authority: 7 U.S.C. 181-229c.

29. Amend § 201.2 by revising the introductory text and paragraph (f) and adding paragraph (l) to read as follows:

§ 201.2 Terms defined.

The definitions of terms contained in the Act shall apply to such terms when used in the Regulations under the Packers and Stockyards Act, 9 CFR part 201; Rules of Practice Governing Proceedings under the Packers and Stockyards Act, 9 CFR part 202; and Statements of General Policy under the Packers and Stockyards Act, 9 CFR part 203. In addition, the following terms used in these parts shall be construed to mean:

* * * * *

(f) Regional director means the regional director of the Packers and Stockyards Division (PSD) for a given region or any person authorized to act for the regional director.

* * * * *

(l) Packers and Stockyards Division (PSD) means the Packers and Stockyards Division of the Fair Trade Practices Program (FTPP), Agricultural Marketing Service.

* * * * *

§ 201.34 [Amended]

30. Amend § 201.34:

a. In paragraphs (a) and (b), by removing the words “Grain Inspection, Packers and Stockyards Administration (Packers and Stockyards Programs)” and adding in their place the words “Agricultural Marketing Service (AMS)”; and

b. In paragraph (c), by removing the words “Grain Inspection, Packers and Stockyards Administration” and adding in their place the words “Agricultural Marketing Service”.

31. Amend § 201.71 by revising the sixth sentence of paragraph (a) to read as follows:

§ 201.71 Scales and or Electronic Evaluation Devices or Systems; accurate weights and measures, repairs, adjustments or replacements after inspection.

(a) * * * All approved material is available for inspection at USDA, AMS, Packers and Stockyards Division, 1400 Independence Avenue SW, Washington, DC 20250, telephone 202-720-7051, and is for sale by the National Conference of Weights and Measures (NCWM), 1135 M Street, Suite 110, Lincoln, Nebraska, 68508. * * *

* * * * *

§ 201.108-1 [Amended]

32. Amend § 201.180-1, in the introductory text, by removing both instances of the words “Packers and Stockyards Programs” and adding in their place “Packers and Stockyards Division”.

PART 202—RULES OF PRACTICE GOVERNING PROCEEDINGS UNDER THE PACKERS AND STOCKYARDS ACT

33. The authority citation for part 202 continues to read:

Authority: 7 U.S.C. 228(a); 7 CFR 2.22 and 2.81.

§ 202.2 [Amended]

34. In § 202.2, amend paragraph (b) by removing the words “Grain Inspection, Packers and Stockyards Administration (Packers and Stockyards Programs) (GIPSA) and adding in their place the words “Agricultural Marketing Service (AMS)”.

§ 202.102 [Amended]

35. In § 202.102, revise the definitions for “Agency” and “Agency head” by removing the words “Grain Inspection, Packers and Stockyards Administration (Packers and Stockyards Programs) (GIPSA) and adding in their place the words “Agricultural Marketing Service (AMS)”.

36. Amend § 202.103 by revising paragraphs (d) and (e) to read as follows:

§ 202.103 Rule 3: Beginning a reparation proceeding.

* * * * *

(d) Where to file. The complaint should be transmitted or delivered to any regional office of the Packers and Stockyards Division (PSD), or to the PSD headquarters in Washington, DC, or delivered to any full time PSD employee.

(e) Time for filing. The complaint must be received by the Department within 90 days after accrual of the cause of action alleged in it. If a complaint is transmitted or delivered to an office of the Department, it shall be deemed to be received by the Department when it reaches such office. If a complaint is delivered to a full-time PSD employee, it shall be deemed to be received by the Department when it is received by such employee.

* * * * *

37. Amend § 202.112 by revising the first and last sentences of paragraph (j) and by revising paragraph (k) to read as follows:

§ 202.112 Rule 12: Oral hearing.

* * * * *

(j) Filing, and presiding officer's certificate, of the transcript or recording. As soon as practicable after the close of the oral hearing, the reporter shall transmit to the presiding officer the original transcript or recording of the testimony, and as many copies of the transcript or recording as may be required by paragraph (i) of this section for the PSD regional offices and as may be required for the PSD headquarters office in Washington. * * * The presiding officer shall send the copies of the transcript or recording to the hearing clerk who shall send them to PSD headquarters.

(k) Keeping of copies of the transcript or recording. During the period in which the proceeding has an active status in the Department, a copy of the transcript or recording shall be kept at the PSD regional office most convenient to the respondent; however, if there are two or more respondents and they are located in different regions, such copy of the transcript or recording shall be kept at the PSD regional office nearest to the place where the hearing was held. In addition, a copy of the transcript or recording shall be kept at the PSD regional office most convenient to the complainant. Any such copy shall be available for examination during official hours of business at the regional office, but shall remain the property of the Department and shall not be removed from such office.

PART 203—STATEMENTS OF GENERAL POLICY UNDER THE PACKERS AND STOCKYARDS ACT

38. The authority citation for part 203 continues to read:

Authority: 7 CFR 2.22 and 2.81.

39. Amend § 203.4 by revising paragraph (a) to read as follows:

§ 203.4 Statement with respect to the disposition of records by packers, live poultry dealers, stockyard owners, market agencies and dealers.

(a) Records to be kept. Section 401 of the Packers and Stockyards Act (7 U.S.C. 221) provides, in part, that every packer, live poultry dealer, stockyard owner, market agency, and dealer shall keep such accounts, records, and memoranda as fully and correctly disclose all transactions involved in his business, including the true ownership of such business by stockholding or otherwise. In order to properly administer the P&S Act, it is necessary that records be retained for such periods of time as may be required to permit the Packers and Stockyards Division (PSD) a reasonable opportunity to examine such records. Section 401 of the Act does not, however, provide for the destruction or disposal of records. Therefore, the Department has formulated this policy statement to provide guidance as to the periods of time after which records may be disposed of or destroyed.

* * * * *

§ 203.5 [Amended]

40. Amend § 203.5 by removing the words “Grain Inspection, Packers and Stockyards Administration (Packers and Stockyards Programs)” and adding in its place in the first two instances the word “Department,” and adding in its place in the third instance the term “PSD”.

§ 203.7 [Amended]

41. Amend § 203.7:

a. In the first sentence of paragraph (a), by removing the words “Grain Inspection, Packers and Stockyards Administration (Packers and Stockyards Programs)” and adding in their place “PSD”;

b. In the third sentence of paragraph (b)(2)(iii), by removing the words “Grain Inspection, Packers and Stockyards Administration (Packers and Stockyards Programs)” and adding in their place “PSD”;

c. In the fourth sentence of paragraph (b)(2)(iii), by removing the words “Grain Inspection, Packers and Stockyards Administration (Packers and Stockyards Programs)” and adding in their place the words “PSD regional”; and

d. In the first sentence of paragraph (c), by removing the words “Grain Inspection, Packers and Stockyards Administration (Packers and Stockyards Programs)” and adding in their place “PSD”.

§ 203.12 [Amended]

42. Amend § 203.12:

a. In paragraphs (a) through (c), by removing the sets of three asterisks and adding in their place three ellipsis points;

b. In paragraph (f), by removing the words “Grain Inspection, Packers and Stockyards Administration (Packers and Stockyards Programs)” and adding in their place “Department”; and

c. In paragraph (g), by removing the words “Grain Inspection, Packers and Stockyards Administration (Packers and Stockyards Programs)” and adding in their place “PSD”.

§ 203.14 [Amended]

43. Amend § 203.114 in the note following paragraph 1 by removing the words “Grain Inspection, Packers and Stockyards Administration (Packers and Stockyards Programs)” and adding in their place “PSD”.

44. Amend § 203.15 by revising paragraph (a)(6) to read as follows:

§ 203.15 Trust benefits under sections 206 and 207 of the Act.

(a) * * *

(6) Amount of money due; and to make certain that a copy of such letter, mailgram, or telegram is filed with a PSD regional office or with the PSD headquarters office within the prescribed time.

* * * * *

§ 203.16 [Amended]

45. Amend § 203.16, in paragraphs (a) introductory text and (b), by removing the words “Grain Inspection, Packers and Stockyards Administration (Packers and Stockyards Programs)” and adding in their place “Department”.

§ 203.17 [Amended]

46. Amend § 203.17, in paragraphs (a), (b), and (d), by removing the words “Grain Inspection, Packers and Stockyards Administration (Packers and Stockyards Programs)” and adding in their place “PSD”.

47. Amend § 203.18 by revising paragraphs (a) and (d) to read as follows:

§ 203.18 Statement with respect to packers engaging in the business of custom feeding livestock.

(a) In its administration of the Packers and Stockyards Act, the Department has sought to promote and maintain open and fair competition in the livestock and packing industries, and to prevent unfair or anticompetitive practices when they are found to exist. It is the opinion of the Department that the ownership or operation of custom feedlots by packers presents problems which may under some circumstances result in violations of the Packers and Stockyards Act.

* * * * *

(d) The Department does not consider the existence of packer/custom feedlot relationships, by itself, to constitute a violation of the Act. In the event it appears that a packer/custom feedlot arrangement gives rise to a violation of the Act, an investigation will be made on a case-by-case basis, and, where warranted, appropriate action will be taken.

* * * * *

§ 203.19 [Amended]

48. Amend § 203.19:

a. In paragraph (a), by removing the words “Grain Inspection, Packers and Stockyards Administration (Packers and Stockyards Programs)” and adding in their place “Department”; and

b. In paragraph (c)(2), by indenting the paragraph, capitalizing the word “operations”, and removing the words “Grain Inspection, Packers and Stockyards Administration (Packers and Stockyards Programs)” and adding in their place “PSD”.

PART 204—[REMOVED AND RESERVED]

49. Under the authority of 5 U.S.C. 552, remove and reserve part 204, consisting of §§ 204.1 through 204.7.

PART 205—CLEAR TITLE—PROTECTION FOR PURCHASERS OF FARM ANIMALS

50. The authority citation for part 205 continues to read:

Authority: 7 U.S.C. 1631; 7 CFR 2.22 and 2.81.

51. Amend § 205.101 by revising paragraph (c) to read as follows:

§ 205.101 Certification—request and processing.

* * * * *

(c) Any such request and attachments must be filed in triplicate (one copy for public inspection, as second copy for use in AMS, and a third copy for use in the Office of the General Counsel, USDA). All three copies must be received in the headquarters of the Packers and Stockyards Division, Agricultural Marketing Service (AMS), USDA, Washington, DC 20250.

* * * * *

PART 206—SWINE CONTRACT LIBRARY

52. The authority citation for part 206 continues to read:

Authority: 7 U.S.C. 198-198b; 7 U.S.C. 222.

53. In part 206, wherever it occurs:

a. Remove the term “GIPSA” and add in its place “PSD”;

b. Remove the words “GIPSA website (http://gipsa.usda.gov)” and add in their place “AMS website (https://ams.usda.gov)”; and

c. Remove the term “USDA GIPSA,” and add in its place “USDA, AMS, PSD”.

§ 206.2 [Amended]

54. Amend § 206.2, in paragraph (b), by removing the words “Grain Inspection, Packers and Stockyards Administration (GIPSA)” and adding in their place “Packers and Stockyards Division (PSD)”.

Dated: August 20, 2019.
Greg Ibach,
Under Secretary, Marketing and Regulatory Programs.

[FR Doc. 2019-18201 Filed 8-29-19; 8:45 am]

BILLING CODE 3410-02-P